ENVIRONMENTAL PROTECTION AGENCY

[EPA-HQ-OPP-2014-0479; FRL-9916-07]

Agency Information Collection Activities; Proposed Collection; Comment Request Reporting in the FIFRA Cooperative Agreement Work Plan and Report Template OMB Control No. 2070-NEW

AGENCY: Environmental Protection Agency (EPA).

ACTION: Notice.

SUMMARY: In compliance with the Paperwork Reduction Act (PRA), this document announces that EPA is planning to submit an Information Collection Request (ICR) to the Office of Management and Budget (OMB). The ICR, entitled “Reporting in the FIFRA Cooperative Agreement Work Plan and Report Template” and identified by EPA ICR No. 2511.01 and OMB Control No. 2070-NEW, represents a new request. Before submitting the ICR to OMB for review and approval, EPA is soliciting comments on specific aspects of the proposed information collection that is summarized in this document. The ICR and accompanying material are available in the docket for public review and comment.

DATES: Comments must be received on or before March 3, 2014.

ADDRESSES: Submit your comments, identified by docket identification (ID) number EPA-HQ-OPP-2014-0479, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Cameo Smoot, Field and External Affairs Division (7605P) Office of Pesticide Programs, Environmental Protection Agency, 1200 Pennsylvania Ave. NW., Washington, DC 20460-0001; telephone number: (703) 305-5454, email address: smoot.cameo@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Reporting in the FIFRA Cooperative Agreement Work Plan and Report Template.

ICR number: EPA ICR No. 2511.01.

OMB control number: OMB Control No. 2070-NEW.

ICR status: This is a new information collection activity. An Agency may not conduct or sponsor, and a person is not required to respond to, a collection of information, unless it displays a currently valid OMB control number. The OMB control numbers for EPA's regulations in title 40 of the Code of Federal Regulations (CFR), after appearing in the Federal Register when approved, are listed in 40 CFR part 9, are displayed either by publication in the Federal Register or by other appropriate means, such as on the related collection instrument or form, if applicable. The display of OMB control numbers for certain EPA regulations is consolidated in 40 CFR part 9.

Abstract: This ICR describes the burden activities for the collection of information for the pre-award burden activity for creating a work plan and the post-award and after-the-grant award activities related to reporting accomplishments to implement EPA's Federal Insecticide Fungicide and Rodenticide Act State and Tribal Assistance Grant (STAG) program (7 U.S.C. 136u). The ICR augments another ICR that is currently approved under OMB control number 2030-0020 and that accounts for the current PRA burden for the minimum management requirements for all recipients of EPA grants or cooperative agreements (assistance agreements). The new ICR describes the paperwork activities associated specifically with the FIFRA program specific activities, including the use of a standardized electronic reporting template that was developed in conjunction with the States and EPA Regions for the collection of this information. Responses to this collection of information are mandatory (40 CFR parts 30 and 31).

Burden statement: The annual public reporting and recordkeeping burden for this collection of information is estimated to average 39 hours per response. Burden is defined in 5 CFR 1320.3(b). The ICR, which is available in the docket along with other related materials, provides a detailed explanation of the collection activities and the burden estimate that is only briefly summarized here:

Respondents/Affected Entities: State, local governments, tribes and U.S. territories. Entities potentially affected by this ICR are grantees of Federal funds participating in the FIFRA and STAG program (7 U.S.C. 136u).

Estimated total number of potential respondents: 81

Frequency of response: On occasion

Estimated total average number of responses for each respondent: 2

Estimated total annual burden hours: 6,318 hours.

Estimated total annual costs: $233,280. No capital investment or maintenance and operational costs are related to this action.

III. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et. seq.

Dated: December 22, 2014.
James Jones,
Assistant Administrator, Office of Chemical Safety and Pollution Prevention.

[FR Doc. 2014-30685 Filed 12-31-14; 8:45 am]

BILLING CODE 6560-50-P